INTERNATIONAL TRADE COMMISSION

[Investigation No. 332-552]

Overview of Cuban Imports of Goods and Services and Effects of U.S. Restrictions

AGENCY: United States International Trade Commission.

ACTION: Institution of investigation and scheduling of hearing.

SUMMARY: Following receipt on December 17, 2014, of a request from the Senate Committee on Finance (Committee) under section 332(g) of the Tariff Act of 1930 (19 U.S.C. 1332(g)), the U.S. International Trade Commission (Commission) instituted investigation No. 332-552, Overview of Cuban Imports of Goods and Services and Effects of U.S. Restrictions.

DATES:

March 10, 2015: Deadline for filing requests to appear at the public hearing.

March 12, 2015: Deadline for filing prehearing briefs and statements.

March 24, 2015: Public hearing.

March 31, 2015: Deadline for filing posthearing briefs and statements.

April 15, 2015: Deadline for filing all other written submissions.

September 15, 2015: Transmittal of Commission report to the Committee.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Project leader Heidi Colby-Oizumi (202-205-3391 or heidi.colby@usitc.gov) or deputy project leader Alissa Tafti (202-205-3244 or alissa.tafti@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: As requested by the Committee, the Commission will conduct an investigation and provide a report that provides an overview of recent and current trends in Cuban imports of goods and services, including from the United States, and an analysis of U.S. restrictions affecting such purchases, including restrictions on U.S. citizen travel to Cuba. The Committee asked that the report, to the extent possible, include the following:

1. An overview of Cuba's imports of goods and services from, to the extent possible, 2005 to the present, including identification of major supplying countries, products, and market segments;

2. a description of how U.S. restrictions on trade, including those relating to export financing terms and travel to Cuba by U.S. citizens, affect Cuban imports of U.S. goods and services; and

3. for sectors where the impact is likely to be significant, a qualitative and, to the extent possible, quantitative estimate of U.S. exports of goods and services to Cuba, in the event that statutory, regulatory, or other trade restrictions on U.S. exports of goods and services as well as travel to Cuba by U.S. citizens are lifted.

The Committee also asked that the report include, to the extent possible, state-specific analysis of the impacts described above. The Committee asked that the Commission deliver its report no later than September 15, 2015. The Committee also stated that it intends to make the Commission's report public and asked that the report not include any confidential business information.

Public Hearing: The Commission will hold a public hearing in connection with this investigation at the U.S. International Trade Commission Building, 500 E Street SW., Washington, DC, beginning at 9:30 a.m. on Tuesday, March 24, 2015. Requests to appear at the public hearing should be filed with the Secretary not later than 5:15 p.m., March 10, 2015, in accordance with the requirements in the “Submissions” section below. All prehearing briefs and statements should be filed with the Secretary not later than 5:15 p.m., March 12, 2015; and all posthearing briefs and statements responding to matters raised at the hearing should be filed with the Secretary not later than 5:15 p.m., March 31, 2015. All hearing-related briefs and statements should be filed in accordance with the requirements for filing written submissions set out below. In the event that, as of the close of business on March 10, 2015, no witnesses are scheduled to appear at the hearing, the hearing will be canceled. Any person interested in attending the hearing as an observer or nonparticipant may call the Office of the Secretary (202-205-2000) after March 5, 2015, for information concerning whether the hearing will be held.

Written Submissions: In lieu of, or in addition to, participating in the hearing, interested parties are invited to file written submissions concerning this investigation. All written submissions should be addressed to the Secretary, and all such submissions (other than prehearing and posthearing briefs and statements) should be received not later than 5:15 p.m., April 15, 2015. All written submissions must conform with the provisions of section 201.8 of the Commission's Rules of Practice and Procedure (19 CFR 201.8). Section 201.8 and the Commission's Handbook on Filing Procedures require that interested parties file documents electronically on or before the filing deadline and submit eight (8) true paper copies by 12:00 p.m. eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform with the requirements of section 201.6 of the Commission's Rules of Practice and Procedure (19 CFR 201.6). Section 201.6 of the rules requires that the cover of the document and the individual pages be clearly marked as to whether they are the “confidential” or “nonconfidential” version, and that the confidential business information be clearly identified by means of brackets. All written submissions, except for confidential business information, will be made available for inspection by interested parties.

In the request letter, the Committee stated that it intends to make the Commission's report available to the public in its entirety, and asked that the Commission not include any confidential business information in the report it sends to the Committee. Any confidential business information received by the Commission in this investigation and used in preparing this report will not be published in a manner that would reveal the operations of the firm supplying the information.

Summaries of Written Submissions: The Commission intends to publish summaries of the positions of interested persons in an appendix to its report. Persons wishing to have a summary of their position included in the appendix should include a summary with their written submission. The summary may not exceed 500 words, should be in MSWord format or a format that can be easily converted to MSWord, and should not include any confidential business information. The summary will be published as provided if it meets these requirements and is germane to the subject matter of the investigation. In the appendix the Commission will identify the name of the organization furnishing the summary, and will include a link to the Commission's Electronic Document Information System (EDIS) where the full written submission can be found.

By order of the Commission.
Issued: January 29, 2015.
Lisa R. Barton,
Secretary to the Commission.

[FR Doc. 2015-02103 Filed 2-3-15; 8:45 am]

BILLING CODE 7020-02-P